DEPARTMENT OF THE INTERIOR

Fish and Wildlife Service

[FWS-HQ-MB-2020-N050; FF09M21200-190-FXMB1231099BPP0; OMB Control Number 1018-0167]

Agency Information Collection Activities; Submission to the Office of Management and Budget for Review and Approval; Eagle Take Permits and Fees

AGENCY: Fish and Wildlife Service, Interior.

ACTION: Notice of information collection; request for comment.

SUMMARY: In accordance with the Paperwork Reduction Act, we, the U.S. Fish and Wildlife Service, are proposing to reinstate a previously approved information collection with revisions.

DATES: Interested persons are invited to submit comments on or before June 18, 2020.

ADDRESSES: Send written comments on this information collection request (ICR) to the Office of Management and Budget's Desk Officer for the Department of the Interior by email at OIRA_Submission@omb.eop.gov; or via facsimile to (202) 395-5806. Please provide a copy of your comments to the Service Information Collection Clearance Officer, U.S. Fish and Wildlife Service, MS: PRB/PERMA (JAO), 5275 Leesburg Pike, Falls Church, VA 22041-3803 (mail); or by email to Info_Coll@fws.gov. Please reference OMB Control Number 1018-0167 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the ICR at http://www.reginfo.gov/public/do/PRAMain.

SUPPLEMENTARY INFORMATION: In accordance with the Paperwork Reduction Act of 1995 (PRA, 44 U.S.C. 3501 et seq.), we, the U.S. Fish and Wildlife Service (Service, we), are proposing to reinstate a previously approved information collection with revisions.

In accordance with the PRA and its implementing regulations at 5 CFR 1320.8(d)(1), we provide the general public and other Federal agencies with an opportunity to comment on new, proposed, revised, and continuing collections of information. This helps us assess the impact of our information collection requirements and minimize the public's reporting burden. It also helps the public understand our information collection requirements and provide the requested data in the desired format.

On November 7, 2019, we published in the Federal Register (84 FR 60106) a notice of our intent to request that OMB approve this information collection. In that notice, we solicited comments for 60 days, ending on January 6, 2020. We received the following comments in response to that notice:

Comment 1—Comment received via November 20, 2019, email from Pimnunihus Cenname: “If there can be a faster, easier process for Indigineous-Native Americans, nation's, tribes, Pueblo's, villages, or descendants, families, Indian doctors, medicine (men, & or women). To aquire, receive, or obtain, for personal use, spiritual, ceremonial purposes, then I feel there should be a way implemented. This is apart of the NATIVE American Freedom of Religion act 1978, as well as other federal laws, that pertain to such as mentioned above. More over there has been issues regarding these matters of possession, use, and conflicts that otherwise could have been avoided, through simple identification of tribe, family, etc. This is a problem Indigineous people should not have.”

Agency Response to Comment 1: The Service and Department of the Interior have taken numerous actions to facilitate indigenous people's access to eagle and migratory bird feathers. Most recently, we have established a new tribal permit that allows tribes to retain eagles found dead on tribal lands with appropriate notification to the Service to allow a determination of cause of death for purposes of improving eagle conservation. We have provided grants and permits to tribes to establish and operate live eagle aviaries, which provide feathers to tribal members for spiritual and ceremonial purposes. Under all types of eagle possession permits, permittees are required to send molted feathers, and eventually eagle remains, to the National Eagle Repository for distribution to tribal members. We also issue permits to facilities to receive, possess, and distribute feathers and remains of other migratory birds to members of federally recognized tribes. Additionally, we have an official enforcement policy that allows tribal members to possess parts and feathers of migratory birds without a permit (as long as the birds were not intentionally killed or obtained commercially). We continue to explore additional ways to enable indigenous people to obtain and use eagle and migratory birds for spiritual and ceremonial purposes in keeping with our responsibility to conserve healthy populations of eagles and migratory birds.

Comment 2—Comment received via December 30, 2019, email from Ellen Paul, Executive Director of the Ornithological Council: The scientific and exhibition purposes permit issued under 50 CFR 22.21 (Form 3-200-14) for Bald Eagles and Golden Eagles has been problematic. The form is entitled “Eagle Exhibition” but the regulation covers both scientific research and exhibition. It might be advisable to change the title to Eagle Exhibition and Scientific Purposes. The regulation allows transport and possession for scientific research or public exhibition (or, presumably, both) but the permit seems to be issued only for public exhibition. Moreover, at least one region is requiring a museum to obtain a Part 21 scientific collecting permit in order to receive a bald eagle carcass from the Service, rather than obtaining it under the museum's “Federal Eagle Exhibition” permit.

Some regions have issued Eagle Exhibition permits to museums with letters stating that the permits are of indefinite duration and specifying that no annual report is required. This practice makes sense as museums rarely acquire new eagle specimens. Museum holdings will rarely change unless a specimen is transferred to another institution. Others regions still require regular renewal and annual reports.

Agency Response to Comment 2: The commenter is correct that there is a single section of regulations at 50 CFR 22.21 that covers both eagle scientific collecting and eagle exhibition. However, the Service issues two different types of permits under those regulations, one for each of the two activities, which are actually quite distinct in practice. As such, we use two different application forms in order to obtain the different types of information appropriate to each activity. For museum collections, which are used for scientific study, the correct application form is one that is used for both eagle scientific collecting and for scientific collecting for other migratory birds, as the commenter notes (Form 3-200-7, “Migratory Bird and Eagle Scientific Collecting”). For museum exhibitions, which are public exhibits, the correct application form is Form 3-200-14 “Eagle Exhibition.” Because the Eagle Exhibition application form is not used for scientific collections, it does not include questions related to scientific collections. We appreciate these comments and will work with our regional permit offices to resolve the inconsistent approach to setting permit durations and requiring annual reports.

As part of our continuing effort to reduce paperwork and respondent burdens, we are again soliciting comments from the public and other Federal agencies on the proposed ICR that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: Information collection requirements associated with the Federal fish and wildlife permit applications and reports for both migratory birds and eagles are currently approved under a single OMB control number, 1018-0022, “Federal Fish and Wildlife Permit Applications and Reports—Migratory Birds and Eagles; 50 CFR 10, 13, 21, 22.” With this submission to OMB, we are proposing to reinstate OMB Control Number 1018-0167, “Eagle Take Permits and Fees, 50 CFR 22,” in order to transfer the eagle requirements back in to a separate information collection to facilitate easier management of the information collection requirements associated with eagles.

The Bald and Golden Eagle Protection Act (Eagle Act; 16 U.S.C. 668-668d) prohibits take of bald eagles and golden eagles except pursuant to Federal regulations. The Eagle Act regulations at title 50, part 22 of the Code of Federal Regulations (CFR) define the “take” of an eagle to include the following broad range of actions: To “pursue, shoot, shoot at, poison, wound, kill, capture, trap, collect, destroy, molest, or disturb.” The Eagle Act allows the Secretary of the Interior to authorize certain otherwise prohibited activities through regulations.

All Service permit applications associated with eagles are in the 3-200 and 3-202 series of forms, each tailored to a specific activity based on the requirements for specific types of permits. For this reinstatement, we combined Forms 3-200-10c and 3-200-10d into one form (3-200-10c) to reduce the number of application forms and help streamline the application process. Since both forms dealt with possession for education purposes, and asked virtually the same questions of the applicant, there was no need to have separate forms. We collect standard identifier information for all permits. The information that we collect on applications and reports is the minimum necessary for us to determine if the applicant meets/continues to meet issuance requirements for the particular activity.

In addition to reinstating this information collection, the Service will request OMB approval to automate certain eagle permit forms. The Service's new “ePermits” initiative is an automated permit application system that will allow the agency to move towards a streamlined permitting process to reduce public burden. Public burden reduction is a priority for the Service; the Assistant Secretary for Fish, Wildlife, and Parks; and senior leadership at the Department of the Interior. The intent of the ePermits initiative is to fully automate the permitting process to improve the customer experience and to reduce time burden on respondents. This new system will enhance the user experience by allowing users to enter data from any device that has internet access, including personal computers, tablets, and smartphones. It will also link the permit applicant to the Pay.gov system for payment of the associated permit application fee.

We anticipate including the following Service forms in the ePermits initiative: FWS Forms 3-200-14, 3-200-15a, 3-200-16, 3-200-18, 3-200-69, 3-200-72, 3-200-77, 3-200-78, 3-200-82, 3-202-11 through 3-202-16, 3-1552, and 3-1591.

Title of Collection: Eagle Take Permits and Fees, 50 CFR 22.

OMB Control Number: 1018-0167.

Form Numbers: FWS Forms 3-200-14, 3-200-15a, 3-200-16, 3-200-18, 3-200-71, 3-200-72, 3-200-77, 3-200-78, 3-200-82, 3-202-11 through 3-202-16, 3-1552, 3-1591, and 3-2480.

Type of Review: Reinstatement of a previously approved information collection with revisions.

Respondents/Affected Public: Individuals and businesses. We expect the majority of applicants seeking long-term permits will be in the energy production and electrical distribution business.

Total Estimated Number of Annual Respondents: 4,068.

Total Estimated Number of Annual Responses: 4,318.

Estimated Completion Time per Response: Varies from 15 minutes to 228 hours, depending on activity.

Total Estimated Number of Annual Burden Hours: 25,894.

Respondent's Obligation: Required to obtain or retain a benefit.

Frequency of Collection: On occasion for applications; annually or on occasion for reports.

Total Estimated Annual Nonhour Burden Cost: $1,369,200 (primarily associated with application processing fees).

An agency may not conduct or sponsor and a person is not required to respond to a collection of information unless it displays a currently valid OMB control number.

The authority for this action is the Paperwork Reduction Act of 1995 (44 U.S.C. 3501 et seq.).

Dated: May 14, 2020.
Madonna Baucum,
Information Collection Clearance Officer, U.S. Fish and Wildlife Service.

[FR Doc. 2020-10708 Filed 5-18-20; 8:45 am]

BILLING CODE 4333-15-P